DEPARTMENT OF COMMERCE

International Trade Administration

[C-469-818]

Ripe Olives From Spain: Final Results of Countervailing Duty Administrative Review; 2022

AGENCY: Enforcement and Compliance, International Trade Administration, Department of Commerce.

SUMMARY: The U.S. Department of Commerce (Commerce) determines that certain exporters/producers of ripe olives from Spain received countervailable subsidies during the period of review (POR) January 1, 2022, through December 31, 2022.

DATES: Applicable June 13, 2025.

FOR FURTHER INFORMATION CONTACT: Dusten Hom or Theodore Pearson, AD/CVD Operations, Enforcement and Compliance, International Trade Administration, U.S. Department of Commerce, 1401 Constitution Avenue NW, Washington, DC 20230; telephone: (202) 482-5075 or (202) 482-2631, respectively.

SUPPLEMENTARY INFORMATION:

Background

On September 12, 2024, Commerce published the Preliminary Results of this administrative review in the Federal Register and invited comments from interested parties.¹ On December 9, 2024, Commerce tolled certain deadlines in this administrative proceeding by 90 days.² On March 10, 2025, Commerce extended the final results by 57 days.³ Accordingly, the deadline for the final results is now June 6, 2025.⁴

¹ See Ripe Olives from Spain: Preliminary Results of Countervailing Duty Administrative Review and Partial Rescission of Review; 2022, 89 FR 74210 (September 12, 2024) (Preliminary Results).

² See Memorandum, “Tolling of Deadlines for Antidumping and Countervailing Duty Proceedings,” dated December 9, 2024.

³ See Memorandum, “Extension of Deadline for Final Results of Countervailing Duty Administrative Review; 2022,” dated March 10, 2025.

⁴ See Memorandum, “Extension of Deadline for Final Results of Countervailing Duty Administrative Review; 2022,” dated March 10, 2025.

For a complete description of the events that occurred since the Preliminary Results, see the Issues and Decision Memorandum.⁵ Commerce conducted this review in accordance with section 751(a)(1)(A) of the Tariff Act of 1930, as amended (the Act).

⁵ See Memorandum, “Issues and Decision Memorandum for the Final Results of the Countervailing Duty Administrative Review of Ripe Olives from Spain; 2022,” dated concurrently with, and hereby adopted by, this notice (Issues and Decision Memorandum).

Scope of the Order

The products covered by the Order are ripe olives from Spain. For a complete description of the scope of the Order, see the Issues and Decision Memorandum.

Analysis of Comments Received

All issues raised by interested parties in their case and rebuttal briefs are addressed in the Issues and Decision Memorandum. The topics discussed and the issues raised by parties to which we responded in the Issues and Decision Memorandum are listed in the appendix to this notice. The Issues and Decision Memorandum is a public document and is on file electronically via Enforcement and Compliance's Antidumping and CVD Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments received from interested parties and verification findings, we made changes to our substantial dependence calculation from the Preliminary Results.⁶ For a discussion of these changes, see the Issues and Decision Memorandum.

⁶ See Preliminary Results.

Methodology

Commerce conducted this administrative review in accordance with section 751(a)(1)(A) of the Act. For each of the subsidy programs found to be countervailable, we determine that there is a subsidy, i.e., a government-provided financial contribution that gives rise to a benefit to the recipient, and that the subsidy is specific.⁷ In these final results, Commerce relied, in part, on facts otherwise available, including with an adverse inference, pursuant to sections 776(a) and (b) of the Act. For a complete description of the methodology underlying all of Commerce's conclusions, see the Issues and Decision Memorandum.

⁷ See sections 771(5)(B) and (D) of the Act regarding financial contribution; section 771(5)(E) of the Act regarding benefit; and section 771(5A) of the Act regarding specificity.

Final Results of the Administrative Review

Commerce determined the following net countervailable subsidy rates exist for the period January 1, 2022, through December 31, 2022:

Disclosure
Producer/exporter | Subsidy rate (percent ad valorem)
Agro Sevilla Aceitunas S.Coop.And | 6.59
Angel Camacho Alimentación, S.L. and its cross-owned affiliates ⁸ | 12.69

Commerce intends to disclose the calculations and analysis performed for these final results of review within five days of the date of publication of this notice in the Federal Register, in accordance with 19 CFR 351.224(b).

⁸ Commerce found the following companies to be cross-owned with Angel Camacho Alimentación, S.L.: Grupo Angel Camacho, S.L., Cuarterola S.L., and Cucanoche S.L.

Assessment

In accordance with section 751(a)(2)(C) of the Act and 19 CFR 351.212(b)(2), Commerce shall determine, and U.S Customs and Border Protection (CBP) shall assess, countervailing duties on all appropriate entries covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, we also intend to instruct CBP to collect cash deposits of estimated countervailing duties in the amounts shown above for the above-listed companies with regard to shipments of subject merchandise entered, or withdrawn from warehouse, for consumption on or after the date of publication of these final results of review. For all non-reviewed firms subject to the Order, we will instruct CBP to continue to collect cash deposits of estimated countervailing duties at the most recent company-specific rate or the all-others rate (i.e., 11.08 percent), as appropriate.⁹ These cash deposit requirements, when imposed, shall remain in effect until further notice.

⁹ See Ripe Olives from Spain: Implementation of Determination Under Section 129 of the Uruguay Round Agreements Act, 88 FR 3384 (January 19, 2023).

Administrative Protective Order (APO)

This notice also serves as a final reminder to parties subject to an APO of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

These final results are issued and published in accordance with sections 751(a)(1) and 777(i)(1) of the Act, and 19 CFR 351.221(b)(5).

Dated: June 6, 2025.
Steven Presing,
Acting Deputy Assistant Secretary for Policy and Negotiations.

Appendix

List of Topics Discussed in the Issues and Decision Memorandum

I. Summary

II. Background

III. Scope of the Order

IV. Changes Since the Preliminary Results

V. Subsidies Valuation

VI. Use of Facts Otherwise Available and Adverse Inferences

VII. Analysis of Programs

VIII. Analysis of Comments

Comment 1: Whether Commerce Should Revise its Substantial Dependence Calculation Methodology

Comment 2: Whether Commerce Should Revise its Facts Available (FA) Methodology for Growers that Provided Insufficient Information

Comment 3: Whether Commerce Should Apply Adverse Facts Available (AFA) to Camacho's Growers

Comment 4: Whether Commerce Should Find Additional Camacho Growers to be Uncooperative

IX. Recommendation

[FR Doc. 2025-10734 Filed 6-12-25; 8:45 am]

BILLING CODE 3510-DS-P